DEPARTMENT OF AGRICULTURE

Forest Service

Lincoln National Forest; New Mexico; Perk-Grindstone III Hazardous Fuel Reduction Project

AGENCY: Forest Service, USDA.

ACTION: Notice of Intent to Prepare an Environmental Impact Statement (EIS).

SUMMARY: The Smokey Bear Ranger District of the Lincoln National Forest intends to prepare an environmental impact statement to address the Perk-Grindstone III Hazardous Fuel Reduction Project on National Forest System lands in Lincoln County, New Mexico. The proposed project is located adjacent to or in the immediate vicinity of the Village of Ruidoso. The project area is bounded on the west and south by the Mescalero Apache Indian Reservation.

The Village of Ruidoso is listed as a community at high risk from wildfire, as defined by the National Fire Plan of 2000 (NFP). The proposed project addresses this problem through hazardous fuel reduction and related forest health objectives, as directed by the NFP and as governed by all applicable laws and public policies. The project has been developed through local collaborative processes, continual public participation, and interdisciplinary design. It would involve up to approximately 4,730 acres of forest management treatments and integrated conservation measures within a gross project area of approximately 5,920 acres.

DATES: Comments concerning the scope of the analysis are requested within 14 days following the publication of this notice in the Federal Register. The draft EIS is expected to be available for public review in February 2007 and the final EIS is expected to be published in May 2007.

ADDRESSES: Send written, oral, or e-mail scoping comments to the project leader by: (1) mail—Perk-Grindstone III Hazardous Fuel Reduction Project, Attn: Paul Klug—Project Leader, c/o USDA Forest Service—Smokey Bear Ranger District, 901 Mechem Drive, Ruidoso, NM 88345; (2) telephone—(406) 752-6400; or (3) e-mail—pklug@fs.fed.us. If you choose to comment by e-mail, please include your name and regular mailing address with the scoping comment.

FOR FURTHER INFORMATION CONTACT: Paul Klug, Forester, TEAMS Planning Enterprise, USDA Forest Service, (406) 752-6400. Individuals who use telecommunication devices for the deaf (TDD) may call the Federal Information Relay Service (FIRS) at 1-800-877-8339 between 8 a.m. and 8 p.m., Eastern Standard Time, Monday through Friday.

SUPPLEMENTARY INFORMATION:

Purpose and Need for Action

This proposal is being prepared to meet the intent of the Healthy Forests Restoration Act of 2003 for authorized hazardous fuel reduction projects. The purpose of the Perk-Grindstone III Hazardous Fuel Reduction Project is to moderate potential wildfire intensity on National Forest System lands surrounding the Village of Ruidoso, New Mexico, an area that local cooperative planning has identified and prioritized for treatment: The project area is immediately adjacent to the community, which is listed as being at high risk from wildfire as defined by the National Fire Plan of 2000. The surrounding area is a topographically complex, densely forested landscape with current and future potential for high intensity wildfire. Although portions of the area received fuel reduction treatments between 1994 and 2004, a high-intensity wildfire in untreated areas could exceed the capability of ground-based crews and equipment to use direct-attack firefighting methods, and could put at risk the lives of community residents and firefighters, private property, public facilities, and natural-resource values of the area targeted for conservation by the Forest Plan—including recreation, scenery, and wildlife habitat.

To serve the purpose of moderating potential wildfire intensity in this area and thereby reduce the risk of severe impacts from wildfire, particular forest management needs are indicated, to change current conditions toward desired conditions. These needs are as follows:

• Reduce the tonnage and continuity of woody debris on the forest floor that provides the basic fuel for wildfires.

• Reduce the density of lower- and mid-level trees that can help wildfires climb and torch the crowns of upper-level trees.

• In selected stands, reduce the density and continuity of upper-level trees that can help sustain a crown fire.

• Interrupt forest insect and disease trends that are currently killing large trees and adding to the fuel hazard.

• Create forest conditions that would allow the health and vigor of surviving large trees to improve and become more fire-resilient.

• Implement standards of resource management and environmental protection applicable to the area.

Proposed Action

Proposed forest management work includes noncommercial thinning, commercial thinning involving removal of logs and slash by ground-based skidding or helicopter, ground-based machine work and hand work to pile thinning slash, and slash-pile burning or broadcast burning to dispose of or reduce woody fuels. On existing roads used to support these treatments, maintenance work including forestry best management practices would be performed. No new permanent roads are proposed; however, new temporary roads would be developed to facilitate proper ground-based skidding and access log-landing areas, especially sites used to receive logs by helicopter. Upon completion of logging and other mechanized treatments, temporary roads would be rehabilitated and closed. The proposed forest management treatments and roadwork integrate various detailed design-features to conserve cultural or historical sites, air quality, soil, water quality, wildlife, native plants and trees, scenery, and recreation.

To achieve desired conditions for the area, the proposed action involves some removal of commercial-size trees from areas of protected habitat of the Mexican spotted owl, a threatened species. Under the current forest plan as amended, these treatments to reduce fuels near urban areas are anticipated; nonetheless, they are a departure from the forestwide standards and guidelines adopted to implement the recovery plan for this species. Therefore, to ensure project consistency with the forest plan, the plan would be amended at the same time as and in conjunction with the approval of an action alternative, should one be selected, that involves similar departure from current standards and guidelines to conserve the Mexican spotted owl. The plan amendment would be limited to apply only to the Perk-Grindstone III hazardous fuel reduction project area and its approved activities (36 CFR 219.8(e)).

Responsible Official

The responsible official for the Perk-Grindstone III Hazardous Fuel Reduction Project is S.E. “Lou” Woltering, Forest Supervisor, Lincoln National Forest, 1101 New York Avenue, Alamogordo, NM 88310-6692.

Nature of Decision To Be Made

The EIS will inform both the public and responsible Forest Service officials so that the following decisions can be made: (1) Whether the Forest Service has met procedural requirements of the National Environmental Policy Act to study and disclose effects of the proposed action and alternatives on the quality of the human environment; (2) whether any proposed or alternative activities or their predicted effects are inconsistent with Forest Plan standards and guidelines or other applicable laws, regulations, and policies; (3) whether to amend the Forest Plan as previously described; and (4) whether to approve and implement the proposed action or an alternative.

If, on the basis of the final EIS, the responsible official decides to approve and implement the proposed action or an alternative, it is anticipated that project operations could begin in mid-to-late summer 2007, and continue intermittently for at least three additional years (through 2010 or beyond).

Scoping Process

In December 2004, the Forest Service issued an earlier version of the proposed action. Comments were received and considered, a preferred alternative was developed, and the environmental effects of no action, the original proposed action, and the preferred alternative were compared and reported in an environmental assessment (EA) issued in July 2005. Subsequently, an objection was submitted by an eligible party in accordance with 36 CFR Part 218, and the response to the objection by the Forest Service's southwestern regional office instructed the Forest Supervisor to further analyze and disclose particular environmental effects of the proposed action and alternatives in a revised EA. In this process, the Forest Supervisor decided to feature as the proposed action the previously identified preferred alternative, which involves more commercial cutting to achieve desired conditions and, as a result, departs from current forestwide standards and guidelines for managing Mexican spotted owl habitat. Given this situation and the need for a forest plan amendment, the Forest Supervisor determined that an EIS would be prepared.

Since the project developed to this current status through an early and ongoing collaborative process involving meetings and correspondence with a wide range of public interests, organizations, agencies and individuals, and since this collaborative process and comments on the original proposal helped shape and define the current proposal, all past collaboration and public comments still apply. Additional comments received at this stage of the process will also be considered, and there will also be opportunity to comment on the draft EIS. Considering the amount of public involvement and analysis performed to date and the desire of local partners and community members to expedite the project, the scheduled scoping comment period has been limited to two weeks.

Preliminary Issues

Based on scoping completed to date, the known environmental, economic, and social concerns related to the proposed action are as follows:

• Conservation of scenery and recreation opportunities within the project area;

• Truly effective reduction of the current fuel hazard and potential wildfire intensity;

• Integration of project activities with related fuel-reduction work planned or already in process on neighboring lands;

• Protection of private property during prescribed burning operations;

• Protection of soil, water and air quality;

• Conservation of federally listed threatened species including the Mexican spotted owl and northern goshawk;

• Conservation of old-growth forest conditions;

• Prevention or control of non-native plant invasion;

• Supply of raw materials to area forest-products industries resulting from trees removed to achieve desired conditions; and

• Protection of important archaeological sites or historic properties present in the project area.

The EIS will address these preliminary issues through the proposed action and its integrated design features and conservation measures, through mitigation to avoid, minimize, rectify, reduce, or compensate for possible impacts, or through other reasonable courses of action (alternatives) that might remedy issues while still serving the project purpose and meeting the indicated forest-management needs.

Comment Requested

This notice of intent initiates the final phase of the scoping process which guides the development of the EIS. The Forest Service is requesting any new scoping comments related to the current proposed action and its potential effects on the quality of the human environment. All information, ideas, and concerns previously submitted for the proposal of December 2004 are being retained and considered as potentially relevant to the current proposed action; such comments do not need to be resubmitted unless there are changes or additions.

Early Notice of Importance of Public Participation in Subsequent Environmental Review

A draft EIS will be prepared for notice and comment in February 2007. The comment period on the draft EIS will be 45 days from the date the Environmental Protection Agency publishes the notice of availability in the Federal Register. The Forest Service believes, at this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period on the draft EIS so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 15, 2006.
S.E. “Lou” Woltering,
Forest Supervisor, Lincoln National Forest.

[FR Doc. 06-8010 Filed 9-21-06; 8:45 am]

BILLING CODE 3410-11-P